DEPARTMENT OF THE INTERIOR

National Park Service

Notice of Inventory Completion: Wisconsin Historical Society, Museum Division, Madison, WI

AGENCY: National Park Service, Interior.

ACTION: Notice.

Notice is here given in accordance with the Native American Graves Protection and Repatriation Act (NAGPRA), 25 U.S.C. 3003, of the completion of an inventory of human remains in the possession of the Wisconsin Historical Society (aka State Historical Society of Wisconsin), Museum Division, Madison, WI. The human remains were removed from the Pueblo of Zuni, Catron County, NM.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was done by Wisconsin Historical Society professional staff in consultation with the Zuni Tribe of the Zuni Reservation, New Mexico.

Sometime prior to 1892, human remains representing a minimum of one individual were excavated from a depth of several feet below the surface of the present-day Pueblo of Zuni, Catron County, NM, by the Hemenway expedition. The Hemenway Expedition 1886-1896, was directed by Frank Hamilton Cushing, then Director of the Department of Ethnology at the National Museum. Mary E. Harper donated the remains to the Wisconsin Historical Society in 1892. No known individual was identified. No associated funerary objects are present.

Wisconsin Historical Society professional staff determined the human remains represent the physical remains of an individual of Native American ancestry. Based on geographical location, the Society reasonably believes the human remains are culturally affiliated to the Zuni Tribe.

Officials of the Wisconsin Historical Society, Museum Division have determined that, pursuant to 25 U.S.C. 3001(9), the human remains described above represent the physical remains of one individual of Native American ancestry. Officials of the Wisconsin Historical Society also have determined that, pursuant to 25 U.S.C. 3001(2), there is a relationship of shared group identity that can be reasonably traced between the Native American human remains and the Zuni Tribe of the Zuni Reservation, New Mexico.

Representatives of any other Indian tribe that believes itself to be culturally affiliated with the human remains should contact Jennifer L. Kolb, Wisconsin Historical Museum, 30 N. Carroll St., Madison, WI 53703, telephone (608) 261-2461, before August 18, 2010. Repatriation of the human remains to the Zuni Tribe of the Zuni Reservation, New Mexico, may proceed after that date if no additional claimants come forward.

The Wisconsin Historical Society is responsible for notifying the Zuni Tribe of the Zuni Reservation, New Mexico, that this notice has been published.

Dated: July 9, 2010
Sherry Hutt,
Manager, National NAGPRA Program.

[FR Doc. 2010-17484 Filed 7-16-10; 8:45 am]

BILLING CODE 4312-50-S